DEPARTMENT OF COMMERCE

National Oceanic and Atmospheric Administration

50 CFR Part 622

[Docket No. 160906822-7547-02]

RIN 0648-XG618

Snapper-Grouper Fishery of the South Atlantic; 2018 Commercial Closure for Hogfish in the Florida Keys/East Florida Area of the South Atlantic

AGENCY: National Marine Fisheries Service (NMFS), National Oceanic and Atmospheric Administration (NOAA), Commerce.

ACTION: Temporary rule; closure.

SUMMARY: NMFS implements accountability measures (AMs) for the hogfish commercial sector in the exclusive economic zone (EEZ) of the South Atlantic for the Florida Keys/East Florida (FLK/EFL) stock for the 2018 fishing year through this temporary rule. NMFS estimates commercial hogfish landings for the FLK/EFL hogfish stock for the 2018 fishing year will reach the annual catch limit (ACL) on November 16, 2018. Therefore, NMFS closes the commercial sector for the FLK/EFL hogfish stock in the South Atlantic EEZ on November 16, 2018, through the remainder of the 2018 fishing year. This closure is necessary to protect the hogfish resource in the FLK/EFL region of the South Atlantic.

DATES: This rule is effective 12:01 a.m., local time, November 16, 2018, until 12:01 a.m., local time, January 1, 2019.

FOR FURTHER INFORMATION CONTACT: Mary Vara, NMFS Southeast Regional Office, telephone: 727-824-5305, email: mary.vara@noaa.gov.

SUPPLEMENTARY INFORMATION: The snapper-grouper fishery of the South Atlantic includes hogfish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

The final rule for Amendment 37 to the FMP established two stocks of hogfish in Federal waters of the South Atlantic and new stock boundaries under the jurisdiction of the South Atlantic Fishery Management Council (82 FR 34584; July 25, 2017). One stock is the Georgia through North Carolina (GA/NC) hogfish stock, with a southern boundary extending east from the Florida/Georgia state border to the North Carolina and Virginia state border. The other stock is the FLK/EFL hogfish stock. The FLK/EFL hogfish stock boundary extends from the 25°09′ N latitude line off the west coast of Florida (near Cape Sable, Florida), east around South Florida, to the Florida/Georgia border. The final rule for Amendment 37 set the 2018 ACL for the commercial sector of the FLK/EFL hogfish stock at 4,524 lb (2,052 kg), round weight.

In accordance with regulations at 50 CFR 622.193(u)(2)(i), the commercial AMs for the FLK/EFL hogfish stock include an in-season closure if the commercial ACL is met or is projected to be met. NMFS is required to close the commercial sector for hogfish when the ACL has been met, or is projected to be met, by filing a notification to that effect with the Office of the Federal Register.

NMFS has determined that the 2018 commercial ACL for the EFL/FLK hogfish stock established by Amendment 37 will be met on November 16, 2018. Therefore, this temporary rule implements the AM to close the commercial sector for EFL/FLK hogfish stock in the South Atlantic for the remainder of the 2018 fishing year. Accordingly, the commercial sector for the EFL/FLK hogfish stock in the South Atlantic EEZ will be closed effective 12:01 a.m. local time, November 16, 2018, until January 1, 2019, the start of the next fishing year.

During the commercial closure, all sale or purchase of hogfish in or from the EEZ off the Florida Keys and east coast of Florida, and south of 25°09′ N lat. off the west coast of Florida is prohibited, and harvest or possession of this species is limited to the bag and possession limits. These bag and possession limits apply for this hogfish stock on board a vessel for which a valid Federal commercial or charter vessel/headboat permit for South Atlantic snapper-grouper has been issued, without regard to where such species were harvested, i.e., in state or Federal waters. The commercial sector for the EFL/FLK hogfish stock in the South Atlantic EEZ will reopen on January 1, 2019.

Classification

The Regional Administrator, Southeast Region, NMFS, has determined this temporary rule is necessary for the conservation and management of hogfish in the South Atlantic snapper-grouper fishery and is consistent with the Magnuson-Stevens Act and other applicable laws.

This action is taken under 50 CFR 622.193(u)(2)(i) and is exempt from review under Executive Order 12866.

These measures are exempt from the procedures of the Regulatory Flexibility Act because the temporary rule is issued without opportunity for prior notice and public comment.

This action responds to the best scientific information available. The Assistant Administrator for NOAA Fisheries (AA) finds that the need to immediately implement this action to close the commercial sector for this stock constitutes good cause to waive the requirements to provide prior notice and opportunity for public comment on this temporary rule pursuant to 5 U.S.C. 553(b)(B), because such procedures are unnecessary and contrary to the public interest. Such procedures are unnecessary because the AMs established by Amendment 37 (82 FR 34584; July 25, 2017) and located at 50 CFR 622.193(u)(2)(i) have already been subject to notice and public comment. All that remains is to notify the public of the commercial closure for the EFL/FLK hogfish stock in the South Atlantic EEZ for the remainder of the 2018 fishing year. Such procedures are contrary to the public interest because of the need to immediately implement this action to protect the EFL/FLK hogfish stock, since time for notice and public comment will allow for continued commercial harvest and further exceedance of the commercial ACLs.

For the aforementioned reasons, the AA also finds good cause to waive the 30-day delay in the effectiveness of this action under 5 U.S.C. 553(d)(3).

Authority: 16 U.S.C. 1801 et seq.

Dated: November 9, 2018.
Alan D. Risenhoover,
Director, Office of Sustainable Fisheries, National Marine Fisheries Service.

[FR Doc. 2018-24915 Filed 11-9-18; 4:15 pm]

BILLING CODE 3510-22-P